DEPARTMENT OF COMMERCE

National Oceanic and Atmospheric Administration

[RTID 0648-XF020]

Caribbean Fishery Management Council; Public Virtual Meeting

AGENCY: National Marine Fisheries Service (NMFS), National Oceanic and Atmospheric Administration (NOAA), Commerce.

ACTION: Notice of a public online meeting.

SUMMARY: The Caribbean Fishery Management Council's (Council) Ad Hoc Committee will hold a public virtual meeting to discuss the items contained in the agenda in the SUPPLEMENTARY INFORMATION.

DATES: The Ad Hoc Committee virtual meeting will be held on July 25, 2025, from 9:30 a.m. to 4:00 p.m., AST.

ADDRESSES: You may join the Ad Hoc Committee public virtual meeting (via Zoom) from a computer, tablet, or smartphone by entering the following address:

Ad Hoc Committee Zoom Meeting

Topic: Ad Hoc Committee.

Time: 9:30 a.m.-4:00 p.m., AST.

Join Zoom Meeting: https://us02web.zoom.us/j/84039986774?pwd=SUhDc1hXeFloQWF3ajVtL2ZHRGN3Zz09.

Meeting ID: 840 3998 6774.

Passcode: 179728.

One tap mobile:

+17879667727,,84039986774#,,,,*179728# Puerto Rico

+19399450244,,84039986774#,,,,*179728# Puerto Rico

Dial by your location:

+1 787 966 7727 Puerto Rico

+1 939 945 0244 Puerto Rico

+1 787 945 1488 Puerto Rico

+1 669 900 6833 US (San Jose)

+1 929 205 6099 US (New York)

+1 253 215 8782 US (Tacoma)

+1 301 715 8592 US (Washington DC)

+1 312 626 6799 US (Chicago)

+1 346 248 7799 US (Houston)

Meeting ID: 843 5034 9732

Passcode: 323166

FOR FURTHER INFORMATION CONTACT: Miguel A. Rolón, (787) 398-3717, Caribbean Fishery Management Council, 270 Muñoz Rivera Avenue, Suite 401, San Juan, PR 00918-1903.

SUPPLEMENTARY INFORMATION:

July 25, 2025

9:30 a.m.-9:45 a.m.

—Call to Order

—Roll Call

—Adoption of Agenda

9:45 a.m.-10:00 a.m.

—Species in the Management Units of the IBFMPs—Graciela García-Moliner

10:00 a.m.-10:15 a.m.

—E.O. 14276 and Memorandum from Mr. E. Piñeiro—Miguel A. Rolón

10:15 a.m.-12:00 p.m.

—Discussion of Actions to be Proposed to the CFMC

12:00 p.m.-1:00 p.m.

—Lunch Break

1:00 p.m.-2:00 p.m.

—Continue Discussion of Actions to be Proposed to the CFMC

2-:00 p.m.-4:00 p.m.

—Conclusions and Recommendations

4:00 p.m.

—Adjourn

The order of business may be adjusted as necessary to accommodate the completion of agenda items. The meeting will begin on July 25, 2025, at 9:30 a.m., AST and will end on July 25, 2025, at 4:00 p.m., AST. Other than the start time, interested parties should be aware that discussions may start earlier or later than indicated. In addition, the meeting may be extended from, or completed prior to the date established in this notice.

Special Accomodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: July 8, 2025.
Rey Israel Marquez,
Acting Deputy Director, Office of Sustainable Fisheries, National Marine Fisheries Service.

[FR Doc. 2025-12901 Filed 7-9-25; 8:45 am]

BILLING CODE 3510-22-P